DEPARTMENT OF TRANSPORTATION

Federal Aviation Administration

14 CFR Part 97

[Docket No. 30946; Amdt. No. 3580]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 11, 2014. The compliance date for each SIAP, associated Takeoff Minimums, and ODP is specified in the amendatory provisions.

The incorporation by reference of certain publications listed in the regulations is approved by the Director of the Federal Register as of March 11, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore— (1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on February 14, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

Effective Upon Publication

AIRAC Date | State | City | Airport | FDC No. | FDC Date | Subject
4/3/2014 | AZ | Globe | San Carlos Apache | 3/1061 | 02/03/14 | GPS RWY 27, Orig.
4/3/2014 | OR | Aurora | Aurora State | 3/2076 | 02/04/14 | LOC RWY 17, Amdt 1A.
4/3/2014 | OR | Aurora | Aurora State | 3/2079 | 02/04/14 | VOR/DME A, Amdt 3A.
4/3/2014 | OR | Aurora | Aurora State | 3/2084 | 02/04/14 | RNAV (GPS) B, Orig-A.
4/3/2014 | MA | Fitchburg | Fitchburg Muni | 3/4501 | 02/07/14 | RNAV (GPS) RWY 20, Orig-A.
4/3/2014 | MA | Fitchburg | Fitchburg Muni | 3/4515 | 02/07/14 | NDB RWY 20, Amdt 6A.
4/3/2014 | MA | Fitchburg | Fitchburg Muni | 3/4517 | 02/07/14 | RNAV (GPS) RWY 32, Orig-B.
4/3/2014 | MA | Fitchburg | Fitchburg Muni | 3/4518 | 02/07/14 | RNAV (GPS) RWY 14, Orig-A.
4/3/2014 | OR | Aurora | Aurora State | 3/4604 | 02/04/14 | RNAV (GPS) RWY 35, Orig-D.
4/3/2014 | AK | Nome | Nome | 3/4741 | 01/22/14 | VOR/DME RWY 10, Amdt 2B.
4/3/2014 | AK | Nome | Nome | 3/4742 | 01/22/14 | LOC/DME BC RWY 10, Amdt 3B.
4/3/2014 | AK | Nome | Nome | 3/4769 | 01/22/14 | RNAV (GPS) RWY 10, Amdt 1.
4/3/2014 | WY | Rawlins | Rawlins Muni/Harvey Field | 3/5389 | 02/04/14 | VOR/DME RWY 22, Amdt 2.
4/3/2014 | WY | Rawlins | Rawlins Muni/Harvey Field | 3/5390 | 02/04/14 | RNAV (GPS) RWY 22, Orig.
4/3/2014 | TX | Wichita Falls | Kickapoo Downtown | 3/5443 | 02/04/14 | NDB RWY 35, Amdt 4.
4/3/2014 | MT | Choteau | Choteau | 3/5449 | 02/10/14 | NDB OR GPS RWY 23, Orig-A.
4/3/2014 | MT | Conrad | Conrad | 3/5459 | 02/03/14 | NDB OR GPS RWY 24, Amdt 4B.
4/3/2014 | AK | Gustavus | Gustavus | 3/5773 | 02/04/14 | RNAV (GPS) RWY 29, Amdt 2A.
4/3/2014 | AK | Homer | Homer | 3/7744 | 01/22/14 | RNAV (GPS) Z RWY 22, Amdt 1.
4/3/2014 | AK | St George | St George | 3/7748 | 01/22/14 | ILS RWY 11, Orig-A.
4/3/2014 | AK | Homer | Homer | 3/7749 | 01/22/14 | RNAV (GPS) Y RWY 22, Amdt 1.
4/3/2014 | AK | Homer | Homer | 3/7750 | 01/22/14 | LOC/DME BC RWY 22, Amdt 5A.
4/3/2014 | AK | Homer | Homer | 3/7752 | 01/22/14 | RNAV (GPS) Y RWY 4, Amdt 1.
4/3/2014 | AK | Homer | Homer | 3/7757 | 01/22/14 | RNAV (GPS) Z RWY 4, Amdt 1.
4/3/2014 | AK | Yakutat | Yakutat | 3/9556 | 01/24/14 | RNAV (GPS) RWY 2, Amdt 2.
4/3/2014 | AK | Venetie | Venetie | 3/9780 | 02/10/14 | Takeoff Minimums and (Obstacle) DP, Orig.
4/3/2014 | AK | Minchumina | Minchumina | 3/9782 | 01/22/14 | RNAV (GPS) RWY 21, Orig-A.
4/3/2014 | AK | Minchumina | Minchumina | 3/9783 | 01/22/14 | NDB RWY 3, Amdt 3B.
4/3/2014 | AK | Minchumina | Minchumina | 3/9784 | 01/22/14 | RNAV (GPS) RWY 3, Orig-A.
4/3/2014 | AK | Northway | Northway | 3/9792 | 02/03/14 | RNAV (GPS) RWY 23, Amdt 1A.
4/3/2014 | AK | Klawock | Klawock | 3/9793 | 02/04/14 | NDB/DME RWY 2, Amdt 1A.
4/3/2014 | OR | Newport | Newport Muni | 4/0070 | 02/03/14 | VOR/DME RWY 16, Amdt 8.
4/3/2014 | AK | Bethel | Bethel | 4/0076 | 02/04/14 | ILS OR LOC/DME Z RWY 19R, Amdt 7B.
4/3/2014 | AK | Bethel | Bethel | 4/0077 | 02/04/14 | RNAV (GPS) RWY 19R, Amdt 2A.
4/3/2014 | AK | Bethel | Bethel | 4/0078 | 02/04/14 | VOR/DME RWY 1L, Amdt 2A.
4/3/2014 | AK | Bethel | Bethel | 4/0079 | 02/04/14 | RNAV (GPS) RWY 19L, Orig-A.
4/3/2014 | AK | Bethel | Bethel | 4/0080 | 02/04/14 | RNAV (GPS) RWY 1L, Amdt 1A.
4/3/2014 | AK | Bethel | Bethel | 4/0081 | 02/04/14 | RNAV (GPS) A, Amdt 1.
4/3/2014 | AK | Bethel | Bethel | 4/0082 | 02/04/14 | VOR/DME RWY 19R, Amdt 2A.
4/3/2014 | AK | Bethel | Bethel | 4/0083 | 02/04/14 | RNAV (GPS) RWY 1R, Orig-B.
4/3/2014 | OR | Portland | Portland-Hillsboro | 4/0241 | 02/04/14 | NDB B, Amdt 2.
4/3/2014 | AK | Dillingham | Dillingham | 4/1521 | 02/04/14 | VOR RWY 1, Amdt 9A.
4/3/2014 | ID | Coeur D'Alene | Coeur D'Alene—Pappy Boyington Field | 4/1584 | 02/04/14 | VOR RWY 6, Orig-B.
4/3/2014 | ID | Coeur D'Alene | Coeur D'Alene—Pappy Boyington Field | 4/1585 | 02/04/14 | NDB RWY 6, Amdt 2C.
4/3/2014 | AK | Dillingham | Dillingham | 4/1924 | 02/04/14 | RNAV (GPS) RWY 1, Amdt 2A.
4/3/2014 | AK | Fort Yukon | Fort Yukon | 4/1927 | 02/04/14 | RNAV (GPS) RWY 4, Amdt 1.
4/3/2014 | AK | Fort Yukon | Fort Yukon | 4/1928 | 02/04/14 | RNAV (GPS) RWY 22, Amdt 1.
4/3/2014 | NE | Hebron | Hebron Muni | 4/1932 | 02/04/14 | GPS RWY 12, Orig-B.
4/3/2014 | NE | Hebron | Hebron Muni | 4/1933 | 02/04/14 | NDB RWY 12, Amdt 4A.
4/3/2014 | NE | Hebron | Hebron Muni | 4/1934 | 02/04/14 | GPS RWY 30, Orig-A.
4/3/2014 | AZ | Marana | Marana Rgnl | 4/2469 | 02/04/14 | RNAV (GPS) RWY 21, Amdt 1.
4/3/2014 | AZ | Marana | Marana Rgnl | 4/2470 | 02/04/14 | RNAV (GPS) RWY 12, Amdt 1.
4/3/2014 | AK | Kwethluk | Kwethluk | 4/2504 | 02/04/14 | RNAV (GPS) RWY 36, Orig.
4/3/2014 | AK | Kwethluk | Kwethluk | 4/2505 | 02/04/14 | RNAV (GPS) RWY 18, Orig.
4/3/2014 | SD | Mobridge | Mobridge Muni | 4/2521 | 02/04/14 | RNAV (GPS) RWY 12, Orig.
4/3/2014 | OH | Waverly | Pike County | 4/3053 | 02/04/14 | RNAV (GPS) RWY 25, Orig.
4/3/2014 | OH | Waverly | Pike County | 4/3054 | 02/04/14 | NDB RWY 25, Amdt 1A.
4/3/2014 | CA | Auburn | Auburn Muni | 4/3055 | 02/04/14 | RNAV (GPS) RWY 7, Orig.
4/3/2014 | AK | Ambler | Ambler | 4/3379 | 02/10/14 | Takeoff Minimums and (Obstacle) DP, Orig.
4/3/2014 | AK | Ambler | Ambler | 4/3380 | 02/10/14 | NDB RWY 36, Amdt 2A.
4/3/2014 | NY | Massena | Massena Intl—Richards Field | 4/3394 | 02/10/14 | Takeoff Minimums and (Obstacle) DP, Amdt 8.
4/3/2014 | OK | Pryor | Mid-America Industrial | 4/4127 | 02/10/14 | VOR/DME OR GPS A, Orig.
4/3/2014 | OH | Lebanon | Warren County/John Lane Field | 4/4390 | 02/10/14 | NDB A, Amdt 5A.
4/3/2014 | RI | North Kingstown | Quonset State | 4/4541 | 02/07/14 | ILS OR LOC RWY 16, Amdt 10B.
4/3/2014 | RI | North Kingstown | Quonset State | 4/4542 | 02/07/14 | RNAV (GPS) RWY 34, Orig-A.
4/3/2014 | RI | North Kingstown | Quonset State | 4/4543 | 02/07/14 | RNAV (GPS) RWY 16, Orig-A.
4/3/2014 | VA | Stafford | Stafford Rgnl | 4/4545 | 02/07/14 | ILS OR LOC RWY 33, Orig.
4/3/2014 | PA | Butler | Butler County/K W Scholter Field | 4/4549 | 02/07/14 | Takeoff Minimums and (Obstacle) DP, Amdt 3.
4/3/2014 | AK | Bethel | Bethel | 4/4580 | 02/04/14 | ILS OR LOC/DME Y RWY 19R, Orig-A.
4/3/2014 | NY | Monticello | Sullivan County Intl | 4/4677 | 02/07/14 | ILS OR LOC RWY 15, Amdt 5C.
4/3/2014 | NY | Monticello | Sullivan County Intl | 4/4678 | 02/07/14 | NDB RWY 15, Amdt 7.
4/3/2014 | NY | Monticello | Sullivan County Intl | 4/4679 | 02/07/14 | RNAV (GPS) RWY 15, Orig.
4/3/2014 | NY | Monticello | Sullivan County Intl | 4/4683 | 02/07/14 | VOR/DME RWY 33, Amdt 3.
4/3/2014 | NY | Norwich | Lt Warren Eaton | 4/4686 | 02/07/14 | RNAV (GPS) RWY 1, Orig.
4/3/2014 | NY | Monticello | Sullivan County Intl | 4/4701 | 02/07/14 | RNAV (GPS) RWY 33, Amdt 1.
4/3/2014 | GA | Atlanta | Covington Muni | 4/4714 | 02/07/14 | VOR/DME RWY 10, Amdt 5.
4/3/2014 | MT | Great Falls | Great Falls Intl | 4/4956 | 02/10/14 | NDB RWY 34, Amdt 16B.
4/3/2014 | NY | Hudson | Columbia County | 4/4961 | 02/07/14 | RNAV (GPS) RWY 21, Orig.
4/3/2014 | NY | Hudson | Columbia County | 4/4962 | 02/07/14 | NDB A, Amdt 4.
4/3/2014 | NY | Hudson | Columbia County | 4/4964 | 02/07/14 | RNAV (GPS) RWY 3, Orig.
4/3/2014 | MO | Sullivan | Sullivan Rgnl | 4/5024 | 02/04/14 | NDB RWY 24, Orig-A.
4/3/2014 | FL | New Smyrna Beach | New Smyrna Beach Muni | 4/5193 | 02/07/14 | RNAV (GPS) RWY 7, Orig.
4/3/2014 | FL | New Smyrna Beach | New Smyrna Beach Muni | 4/5197 | 02/07/14 | RADAR 1, Amdt 3A.
4/3/2014 | FL | New Smyrna Beach | New Smyrna Beach Muni | 4/5198 | 02/07/14 | NDB RWY 29, Amdt 2.
4/3/2014 | FL | New Smyrna Beach | New Smyrna Beach Muni | 4/5199 | 02/07/14 | RNAV (GPS) RWY 29, Orig.
4/3/2014 | FL | New Smyrna Beach | New Smyrna Beach Muni | 4/5200 | 02/07/14 | RNAV (GPS) RWY 25, Orig.
4/3/2014 | FL | New Smyrna Beach | New Smyrna Beach Muni | 4/5201 | 02/07/14 | RNAV (GPS) RWY 2, Orig.
4/3/2014 | DC | Washington | Manassas Rgnl/Harry P. Davis Field | 4/5240 | 02/07/14 | RNAV (GPS) RWY 16L, Amdt 1.
4/3/2014 | FL | La Belle | La Belle Muni | 4/5281 | 02/07/14 | RNAV (GPS) RWY 32, Orig.
4/3/2014 | FL | La Belle | La Belle Muni | 4/5283 | 02/07/14 | RNAV (GPS) RWY 14, Orig-A.
4/3/2014 | MA | Plymouth | Plymouth Muni | 4/5310 | 02/07/14 | RNAV (GPS) RWY 24, Orig.
4/3/2014 | NJ | Mount Holly | South Jersey Rgnl | 4/5312 | 02/07/14 | RNAV (GPS) RWY 8, Orig.
4/3/2014 | NJ | Mount Holly | South Jersey Rgnl | 4/5314 | 02/07/14 | RNAV (GPS) RWY 26, Amdt 1.
4/3/2014 | TN | Athens | McMinn County | 4/5315 | 02/07/14 | NDB RWY 2, Amdt 6.
4/3/2014 | TN | Athens | McMinn County | 4/5316 | 02/07/14 | NDB RWY 20, Amdt 7.
4/3/2014 | TN | Livingston | Livingston Muni | 4/5329 | 02/07/14 | RNAV (GPS) RWY 3, Amdt 1.
4/3/2014 | TN | Livingston | Livingston Muni | 4/5330 | 02/07/14 | VOR/DME RWY 21, Amdt 5.
4/3/2014 | CT | Chester | Chester | 4/5540 | 02/04/14 | RNAV (GPS) RWY 35, Orig.
4/3/2014 | CT | Chester | Chester | 4/5541 | 02/04/14 | RNAV (GPS) RWY 17, Orig.
4/3/2014 | CT | Chester | Chester | 4/5542 | 02/04/14 | VOR A, Amdt 4.
4/3/2014 | AL | Haleyville | Posey Field | 4/5551 | 02/07/14 | VOR/DME RWY 18, Amdt 5.
4/3/2014 | AL | Haleyville | Posey Field | 4/5552 | 02/07/14 | RNAV (GPS) RWY 18, Orig.
4/3/2014 | AL | Haleyville | Posey Field | 4/5553 | 02/07/14 | VOR/DME A, Amdt 4.
4/3/2014 | AL | Haleyville | Posey Field | 4/5554 | 02/07/14 | RNAV (GPS) RWY 36, Orig.
4/3/2014 | WI | Shawano | Shawano Muni | 4/5602 | 02/07/14 | Takeoff Minimums and (Obstacle) DP, Amdt 2.
4/3/2014 | WI | Amery | Amery Muni | 4/5603 | 02/07/14 | Takeoff Minimums and (Obstacle) DP, Amdt 1.
4/3/2014 | PA | West Chester | Brandywine | 4/5824 | 02/10/14 | RNAV (GPS) RWY 9, Orig-A.
4/3/2014 | PA | West Chester | Brandywine | 4/5825 | 02/10/14 | RNAV (GPS) RWY 27, Orig-A.
4/3/2014 | PA | West Chester | Brandywine | 4/5826 | 02/10/14 | VOR A, Amdt 3.
4/3/2014 | NJ | Toms River | Ocean County Airport | 4/5831 | 02/07/14 | Takeoff Minimums and(Obstacle) DP, Amdt 1.
4/3/2014 | NY | Massena | Massena Intl—Richards Field | 4/5889 | 02/07/14 | RNAV (GPS) RWY 9, Amdt 1A.
4/3/2014 | VA | Suffolk | Suffolk Executive | 4/5890 | 02/07/14 | RNAV (GPS) RWY 7, Amdt 1.
4/3/2014 | TN | Morristown | Moore-Murrell | 4/5901 | 02/07/14 | RNAV (GPS) RWY 5, Orig.
4/3/2014 | TN | Morristown | Moore-Murrell | 4/5902 | 02/07/14 | NDB RWY 5, Amdt 5.
4/3/2014 | TN | Morristown | Moore-Murrell | 4/5903 | 02/07/14 | RNAV (GPS) RWY 23, Orig.
4/3/2014 | TN | Morristown | Moore-Murrell | 4/5904 | 02/07/14 | SDF RWY 5, Amdt 5.
4/3/2014 | NC | Oak Island | Cape Fear Rgnl Jetport/Howie Franklin Fld | 4/5905 | 02/10/14 | RNAV (GPS) RWY 23, Orig.
4/3/2014 | NC | Oak Island | Cape Fear Rgnl Jetport/Howie Franklin Fld | 4/5906 | 02/10/14 | RNAV (GPS) RWY 5, Amdt 1B.
4/3/2014 | NY | Farmingdale | Republic | 4/6074 | 02/07/14 | RNAV (GPS) RWY 19, Amdt 2.
4/3/2014 | ID | Mountain Home | Mountain Home Muni | 4/6563 | 02/10/14 | NDB RWY 28, Amdt 3.
4/3/2014 | ID | Mountain Home | Mountain Home Muni | 4/6564 | 02/10/14 | Takeoff Minimums and (Obstacle) DP, Amdt 4.

[FR Doc. 2014-04301 Filed 3-10-14; 8:45 am]

BILLING CODE 4910-13-P